DEPARTMENT OF ENERGY

Federal Energy Regulatory Commission

[Docket No. RP04-38-000]

Columbia Gas Transmission Corporation; Notice of Proposed Changes in FERC Gas Tariff

November 5, 2003.

Take notice that on October 31, 2003, Columbia Gas Transmission Corporation (Columbia) tendered for filing as part of its FERC Gas Tariff, Second Revised Volume No. 1 (Tariff), the following tariff sheets, with a proposed effective date of November 30, 2003:

Third Revised Sheet No. 100

Third Revised Sheet No. 105

Fifth Revised Sheet No. 116

Third Revised Sheet No. 130

Fourth Revised Sheet No. 166

Columbia states it is proposing to add the following sentence: “Transporter may separate the components of a previously combined Service Agreement under this Section into separate Service Agreements if Transporter determines that separation is necessary to ensure that the rates, terms, and conditions applicable to each component are distinctly maintained.” This proposed change, along with the tariff changes previously approved by the Commission in Docket No. RP03-579, will enable Columbia to provide shippers a source of flexibility while at the same time ensuring that existing shippers will not be adversely impacted by this change.

Columbia states that copies of its filing have been mailed to all firm customers, interruptible customers and affected state commissions.

Any person desiring to be heard or to protest said filing should file a motion to intervene or a protest with the Federal Energy Regulatory Commission, 888 First Street, NE., Washington, DC 20426, in accordance with § 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's web site under the “e-Filing” link.

Magalie R. Salas,
Secretary.

[FR Doc. E3-00191 Filed 11-12-03; 8:45 am]

BILLING CODE 6717-01-P